DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing their United States citizenship (within the meaning of section 877(a)) with respect to whom the Secretary received information during the quarter ending September 30, 2008.

Last name | First name | Middle name/initials
Ward | Ellen | Cleary
Zahid | Zayd | Mohamed
Bloom | Emma | Catherine
Beselin | Anita | Elisabeth
Salinas | Federico |
Pomfret | Melanie | L
Nixon | Douglas | Ross
Bross | Holger |
Duncalf | Iris | M
Boparai | Pardeep | Singh
Ap | John |
Marder | Israel | Dov
Rosa | Francisco | G
Green | Tzipporah |
Green | Benjamin |
Bernasconi | Christian |
Kurniawan | Didi |
Beck | Oliver | D
Elza | Katherine | Anne
Lee | Marie |
Lim | Wol Soo |
Jin | Chung | Sun

Dated: October 15, 2008.
Angie Kaminski,
Manager Team 103, Examinations Operations, Philadelphia Compliance Services.

[FR Doc. E8-26073 Filed 10-30-08; 8:45 am]

BILLING CODE 4830-01-P